DEPARTMENT OF COMMERCE

National Oceanic and Atmospheric Administration

Proposed Information Collection; Comment Request; Survey of Fish Processors and Disruptions Caused by Hurricane Sandy

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 3, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Min-Yang Lee, (508) 495-2026, or Min-Yang.Lee@noaa.gov.

SUPPLEMENTARY INFORMATION:

I. Abstract

This request is for a new information collection.

The Northeast Fisheries Science Center's Social Sciences Branch seeks to collect data on distribution networks and business practices from fish processors that process groundfish and sea scallops in the Northeast United States. It also seeks to collect data on business disruptions due to Hurricane Sandy for those firms. The data collected will improve research and analysis on the economic impacts of potential fishery management actions, consistent with the Magnuson-Stevens Fishery Conservation and Management Act and the Regulatory Flexibility Act.

II. Method of Collection

This information will be collected by in-person, face-to-face interviews.

III. Data

OMB Control Number: None.

Form Number: None.

Type of Review: Regular submission (request for a new information collection).

Affected Public: Business or other for-profit organizations.

Estimated Number of Respondents: 20.

Estimated Time Per Response: 1 hour, 30 minutes.

Estimated Total Annual Burden Hours: 30.

Estimated Total Annual Cost to Public: $0 in capital costs and $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 28, 2013.
Gwellnar Banks,
Management Analyst, Office of the Chief Information Officer.

[FR Doc. 2013-16096 Filed 7-3-13; 8:45 am]

BILLING CODE 3510-22-P